DEPARTMENT OF THE TREASURY

Submission for OMB Review; Comment Request

December 7, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 12, 2007 to be assured of consideration.

Financial Management Service (FMS)

OMB Number: 1510-0035.

Type of Review: Extension.

Title: Assignment Form.

Description: This form is used when an award holder wants to assign or transfer all or part of his/her award to another person. When this occurs, the award holder forfeits all future rights to the portion assigned.

Respondents: Individuals or households.

Estimated Total Burden Hours: 75 hours.

Clearance Officer: Wesley Powe (202) 874-8936, Financial Management Service, Room 135, 3700 East West Highway, Hyattsville, MD 20782.

OMB Reviewer: Alexander T. Hunt (202) 395-7316, Office of Management and Budget, Room 10235, New Executive Office Building, Washington, DC 20503.

Robert B. Dahl,
Treasury PRA Clearance Officer.

[FR Doc. E6-21214 Filed 12-12-06; 8:45 am]

BILLING CODE 4810-35-P\